SMALL BUSINESS ADMINISTRATION

Region IX Regulatory Fairness Board; Public Federal Regulatory Enforcement Fairness Roundtable

The Small Business Administration Region IX Regulatory Fairness Board and the SBA Office of the National Ombudsman will hold a Public Roundtable on Friday, March 15, 2002 at 9 a.m. at the U.S. Small Business Administration, Foley Federal Building, 300 Las Vegas Boulevard South, Suite 1100, Las Vegas, NV 89101, phone (702) 388-6684, fax (702) 388-6469, to provide small business owners and representatives of trade associations with an opportunity to share information concerning the federal regulatory enforcement and compliance environment.

Anyone wishing to attend or to make a presentation must contact Donna Hopkins in writing or by fax, in order to be put on the agenda. Donna Hopkins, U.S. Small Business Administration, Nevada District Office, 300 Las Vegas Boulevard South, Suite 1100, Las Vegas, NV 89101, phone (702) 388-6684, fax (702) 388-6469, e-mail: donna.hopkins@sba.gov.

For more information, see our Web site at www.sba.gov/ombudsman.

Dated: February 27, 2002.
Michael L. Barrera,
National Ombudsman.

[FR Doc. 02-5406 Filed 3-6-02; 8:45 am]

BILLING CODE 8025-01-P